DEPARTMENT OF THE INTERIOR

Fish and Wildlife Service

Availability of a Habitat Conservation Plan and Receipt of an Application for an Incidental Take Permit by Union Pacific Rail Road Company for the Sacramento Rail Yard Project, Sacramento County, CA

AGENCY: Fish and Wildlife Service, Interior.

ACTION: Notice of availability and receipt of application.

SUMMARY: The Union Pacific Rail Road Company (Union Pacific) has applied to the Fish and Wildlife Service (Service) for an incidental take permit pursuant to section 10(a)(1)(B) of the Endangered Species Act of 1973, as amended. The Service proposes to issue a 2-year permit to Union Pacific that would authorize take of the threatened valley elderberry longhorn beetle (Desmocerus californicus dimorphus) incidental to otherwise lawful activities. Such take would occur during the remediation of contaminated soils at Union Pacific's 240-acre Sacramento Rail Yard (Rail Yard) in downtown Sacramento, Sacramento County, California. Remediation of the contaminated soils at the Rail Yard would result in the loss of 87 elderberry plants with 261 stems which provide habitat for the valley elderberry longhorn beetle.

We request comments from the public on the permit application, which is available for review. The application includes a Habitat Conservation Plan (Plan). The Plan describes the proposed project and the measures that Union Pacific will undertake to minimize and mitigate take of the valley elderberry longhorn beetle.

We also request comments on our preliminary determination that the Plan qualifies as a “low-effect” Habitat Conservation Plan, eligible for a categorical exclusion under the National Environmental Policy Act. The basis for this determination is discussed in an Environmental Action Statement, which is also available for public review.

DATES: Written comments should be received on or before March 29, 2000.

ADDRESSES: Send written comments to Mr. Wayne White, Field Supervisor, Fish and Wildlife Service, 2800 Cottage Way, W-2605, Sacramento, California 95825-1486. Comments may be sent by facsimile to 916-414-6710.

FOR FURTHER INFORMATION CONTACT: Ms. Vicki Campbell, Chief of Conservation Planning Division, at the above address or call (916) 414-6600.

SUPPLEMENTARY INFORMATION:

Availability of Documents

Please contact the above office if you would like copies of the application, Plan, and Environmental Action Statement. Documents also will be available for review by appointment, during normal business hours at the above address.

Background

Section 9 of the Endangered Species Act and Federal regulation prohibit the “take” of fish or wildlife species listed as endangered or threatened, respectively. Take of listed fish or wildlife is defined under the Act to include kill, harm, or harass. The Service may, under limited circumstances, issue permits to authorize incidental take; i.e., take that is incidental to, and not the purpose of, the carrying out of an otherwise lawful activity. Regulations governing incidental take permits for threatened and endangered species are found in 50 CFR 17.32 and 17.22, respectively.

The Sacramento Rail Yard occupies approximately 240 acres and is located at 401 I Street in Sacramento, California. It lies immediately north of the present downtown area, near the confluence of the Sacramento and American Rivers. The Rail Yard has served as the principal locomotive maintenance and rebuilding facility since 1863. The Rail Yard has been designated a state Superfund site by the California Environmental Protection Agency, Department of Toxic Substances Control (Department), due to the presence of heavy metals, primarily lead, in the soil. To comply with the California Health and Safety Code, the Department has directed Union Pacific to remediate the site. The remedial actions for contaminated soils at the Rail Yard include excavation, containment, treatment, recycling, and disposal technologies. These remediation activities will require the removal of all vegetation at the Rail Yard, including the elderberry (Sambucus mexicana) food plant of the valley elderberry longhorn beetle.

In 1998 and 1999, biologists surveyed the project area for special-status wildlife and plant species that could be affected by the project. Based upon those surveys, the Service concluded the project may result in take of one federally listed species, the threatened valley elderberry longhorn beetle.

Union Pacific has agreed to mitigate take of the valley elderberry longhorn beetle by the purchase of 146 habitat units for the beetle from a mitigation bank approved by the Service for such mitigation. One valley elderberry longhorn beetle mitigation unit may consist of as many as 5 elderberry seedlings and 5 additional associated native species, which are planted within an 1,800 square foot area. We determined that a total of 728 seedlings would be required to mitigate for the 261 elderberry stems greater than 1 inch that would be taken. Thus, the number of mitigation credits that Union Pacific would need to purchase is 146, which is determined by dividing the total number of required replacement elderberries by the number of elderberries in one unit. The 146 habitat units have been purchased from Wildlands, Inc., located in Placer County, California.

The Proposed Action consists of the issuance of an incidental take permit and implementation of the Plan to mitigate impacts of the project on the valley elderberry longhorn beetle. Two alternatives to the taking of listed species under the Proposed Action are considered in the Plan.

Under the No Action Alternative, no permit would be issued. However, while this alternative would avoid impacts to the elderberry plants at the Rail Yard, the No Action Alternative is unacceptable as it does not comply with the state of California's Health and Safety Code as well as the directive from the Department to remediate the contaminated soils.

Under the Reduced Take Alternative the proposed remediation efforts would be reduced or limited to certain portions of the Rail Yard, thereby allowing some undetermined number of elderberry plants to remain. Even though this alternative might avoid impacts to some of the elderberry plants on site, the likelihood of valley elderberry longhorn beetle occupancy in the remaining elderberries would be reduced as the area becomes more urbanized. Furthermore, this alternative does not comply with the laws of the state of California, which require a state-recognized Superfund site, such as the Rail Yard, to be remediated.

The Service has made a preliminary determination that the Plan qualifies as a “low-effect” plan as defined by its Habitat Conservation Planning Handbook (November 1996). Determination of low-effect habitat conservation plans is based on the following three criteria: (1) Implementation of the Plan would result in minor or negligible effects on federally listed, proposed, and candidate species and their habitats; (2) implementation of the Plan would result in minor or negligible effects on other environmental values or resources; and (3) impacts of the Plan, considered together with the impacts of other past, present and reasonably foreseeable similarly situated projects would not result, over time, in cumulative effects to environmental values or resources which would be considered significant. As more fully explained in the Service's Environmental Action Statement, the Union Pacific Sacramento Rail Yard Plan qualifies as a “low-effect” plan for the following reasons:

1. Approval of the Plan would result in minor or negligible effects on the valley elderberry longhorn beetle and its habitat. The Service does not anticipate significant direct or cumulative effects to the valley elderberry longhorn beetle resulting from the soil remediation project at the Rail Yard.

2. Approval of the Plan would not have adverse effects on unique geographic, historic or cultural sites, or involve unique or unknown environmental risks.

3. Approval of the Plan would not result in any cumulative or growth inducing impacts and, therefore, would not result in significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the Plan would not establish a precedent for future action or represent a decision in principle about future actions with potentially significant environmental effects.

The Service therefore has made a preliminary determination that approval of the Plan qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

The Service provides this notice pursuant to section 10(c) of the Act. We will evaluate the permit application, the Plan, and comments submitted thereon to determine whether the application meets the requirements of section 10(a) of the Act. If the requirements are met, the Service will issue a permit to the Union Pacific Rail Road Company for incidental take of the valley elderberry longhorn beetle during soil remediation of the Rail Yard. We will make the final permit decision no sooner than 30 days from the date of this notice.

Dated: February 18, 2000.
Elizabeth H. Stevens,
Deputy Manager, California/Nevada Operations Office, Sacramento, California.

[FR Doc. 00-4563 Filed 2-25-00; 8:45 am]

BILLING CODE 4310-55-P